ENVIRONMENTAL PROTECTION AGENCY

[ER-FRL-6641-8]

Environmental Impact Statements; Notice of Availability

Responsible Agency: Office of Federal Activities, General Information (202) 564-7167 or http://www.epa.gov/compliance/nepa/. Weekly receipt of Environmental Impact Statements Filed June 30, 2003 Through July 3, 2003 Pursuant to 40 CFR 1506.9.

EIS No. 030304, Draft EIS, AFS, AL, Forest Health and Restoration Project, Proposal to Determine the Desired Future Conditions of all Existing Loblolly Pine Stands, National Forests in Alabama, Bankhead National Forest, Winston, Lawrence and Franklin Counties, AL, Comment Period Ends: August 25, 2003, Contact: John W. Creed (205) 489-5111.

EIS No. 030305, Draft EIS, AFS, ID, Twin Creek Timber Sale Project, Proposal to Cut and Remove Lodgepole Pine Sawtimber, Road Construction/Reconstruction, Montpelier Ranger District, Caribou National Forest, US Corps of Engineers Permit, Bear Lake County, ID, Comment Period Ends: August 25, 2003, Contact: Eric Mattson (208) 847-0375.

EIS No. 030306, Draft EIS, USA, Programmatic EIS—Army Transformation of the 172nd Infantry Brigade (Separate) to a Stryker Brigade Combat Team (SBCT), Forts Wainwright and Richardson, AK, Comment Period Ends: September 9, 2003, Contact: Kevin Gardner (907) 384-3003.

EIS No. 030307, Final Supplement, FHW, VA, U.S. Route 29 Bypass Improvement, between Route 250 Bypass in Charlottesville and the South Rivanna River in Albemarle, Updated Information, To Consider the Effects of the Selected Alternative on the South Fork Rivanna River Reservoir and its Watershed, U.S. COE Section 404 Permit, Albemarle County, VA, Wait Period Ends: August 11, 2003, Contact: Edward S. Sundra (804) 775-3338.

EIS No. 030308, Final EIS, FHW, PA, NJ, Pennsylvania Turnpike/Interstate 95 Interchange Project, Pennsylvania Turnpike (I-276) and I-95 in Buck County, PA Connection with Proposed Interstate Improvements Extending east into Burlington County, NJ, Wait Period Ends: August 15, 2003, Contact: James A. Cheatham (717) 221-3461.

EIS No. 030309, Draft Supplement, FAA, CA, Los Angeles International Airport Proposed Master Plan Improvements, New Alternative, Enhanced Safety and Security Plan, Los Angeles County, CA, Comment Period Ends: August 25, 2003, Contact: David Kessler (310) 725-3615.

EIS No. 030310, Draft EIS, FHW, TX, TX-45 Highway Southeast Study, from Interstate Highway (IH) 35 south at Farm-to-Market (FM)1327 to TX-130/US 183, Proposal to Enhance the Local, Regional, and National Transportation Systems, Right-of-Way Permit, Travis County, TX, Comment Period Ends: August 25, 2003, Contact: Patrick Bauer (512) 536-5950.

EIS No. 030311, Final Supplement, AFS, MT, Threemile Stewardship Project, Additional Information concerning the Potential Effects on the Goshawk Habitat, Ashland Ranger District, Custer National Forest, Powder and Rosebud Counties, MT, Wait Period Ends: August 11, 2003, Contact: Elizabeth McFarland (406) 784-2344.

EIS No. 030312, Draft EIS, IBW, TX, Lower Rio Grande Flood Control Project, Addresses the Impacts of Alternative Vegetation Maintenance Practices, Located in the United States portions of the Rio Grande, Cameron, Hidalgo and Willacy Counties, TX, Comment Period Ends: August 29, 2003, Contact: Douglas Echlin (915) 832-4741.

EIS No. 030313, Draft EIS, NPS, NY, NJ, Ellis Island and Statue of Liberty National Monument Development Concept Plan, Long-Term Rehabilitation and Reuse for Historic Buildings, Implementation, New York Harbor, NY and NJ, Comment Period Ends: September 12, 2003, Contact: Gwen Wilder (202) 208-3891. This document is available on the Internet at: http://www.nps.gov/elis.

EIS No. 030314, Draft EIS, NPS, WI, Apostle Islands National Lakeshore Wilderness Study, Wilderness Designation or Nondesignation, Ashland and Bayfield Counties, WI, Comment Period Ends: October 9, 2003, Contact: Robert Krumenaker (715) 779-3397. This document is available on the Internet at: http://www.nps.gov/apis/wstudy.htm.

EIS No. 030315, Final EIS, COE, CO, Rueter-Hess Reservoir Project, Construction and Operation, Proposed Water Supply Reservoir and Off-Stream Dam, U.S. COE Section 404 Permit, Endangered Species Act (Section &) and Right-of-Way Use Permit, Located on Newlin Gulch along Cherry Creek, Town of Parker, Douglas County, CO, Wait Period Ends: August 11, 2003, Contact: Rodney J. Schwartz (402) 221-4143.

EIS No. 030316, Final EIS, DOD, CA, AS, AK, HI, WA, Ground-Based Midcourse Defense (GMD) Extended Test Range (ETR) Project, Proposal to Construct and Operate, Due: August 11, 2003, Contact: Julia Hudson-Elliott (256) 955-4822. This document is available on the Internet at: http://www.acq.osd.mil/bmdo/bmdolink/html/bmdolink.html.

Amended Notices

EIS No. 030301, Final EIS, UAF, CA, Los Angeles Air Force Base Land Conveyance, Construction and Development Project, Transfer Portions of Private Development in Exchange for Construction of New Seismically Stable Facilities, Cities of El Sequndo and Hawthorne, Los Angeles County, CA, Wait Period Ends: August 04, 2003, Contact: Jason Taylor (310) 363-0142. Revision of FR Notice Published on 7/3/2003:CEQ Comment Period Ending 8/18/2003 has been Corrected to CEQ Wait Period Ending 8/4/2003.

Dated: July 8, 2003.
Joseph C. Montgomery,
Director, NEPA Compliance Division, Office of Federal Activities.

[FR Doc. 03-17621 Filed 7-10-03; 8:45 am]

BILLING CODE 6560-50-P